ENVIRONMENTAL PROTECTION AGENCY

40 CFR Part 9

[FRL-7399-1]

OMB Approvals Under the Paperwork Reduction Act; Technical Amendment

AGENCY: Environmental Protection Agency (EPA).

ACTION: Final rule.

SUMMARY: In compliance with the Paperwork Reduction Act (PRA), this technical amendment amends the table that lists the Office of Management and Budget (OMB) control numbers issued under the PRA.

EFFECTIVE DATE: This final rule is effective October 28, 2002.

FOR FURTHER INFORMATION CONTACT: Marcia B. Mia, 202-564-7042; mia.marcia@epa.gov

SUPPLEMENTARY INFORMATION: EPA is amending the table of currently approved information collection request (ICR) control numbers issued by OMB for various regulations. The amendment updates the table to list those information collection requirements promulgated under the Consolidated Federal Air Rule, (CAR) which appeared in the Federal Register on December 14, 2000 at 65 FR 78285. The amendment also updates the table to list the information collection requirements approved by OMB on August 31, 2002 under control number 2060-0443 for the consolidation of the ICR's for the referencing subparts of the CAR into the CAR ICR as follows: 40 CFR part 60, subpart Ka; 40 CFR part 60, subpart Kb; 40 CFR part 60, subpart VV; 40 CFR part 60, subpart DDD; 40 CFR part 60, subpart III; 40 CFR part 60, subpart NNN; 40 CFR part 60, subpart RRR; 40 CFR part 61, subpart BB; 40 CFR part 61, subpart Y; 40 CFR part 61, subpart V; 40 CFR part 63, subpart F; 40 CFR part 63, subpart G; 40 CFR part 63, subpart H; and 40 CFR part 63, subpart I. EPA will continue to present OMB control numbers in a consolidated table format to be codified in 40 CFR part 9 of the Agency's regulations. The table lists CFR citations with reporting, recordkeeping, or other information collection requirements, and the current OMB control numbers. This listing of the OMB control numbers and their subsequent codification in the CFR satisfies the requirements of the Paperwork Reduction Act (44 U.S.C. 3501 et seq.) and OMB's implementing regulations at 5 CFR part 1320.

These ICRs were previously subject to public notice and comment prior to OMB approval. Due to the technical nature of the table, EPA finds that further notice and comment is unnecessary. As a result, EPA finds that there is “good cause” under section 553(b)(B) of the Administrative Procedure Act, 5 U.S.C. 553(b)(B), to amend this table without prior notice and comment.

I. Administrative Requirements

Under Executive Order 12866 (58 FR 51735, October 4, 1993), this action is not a “significant regulatory action” and is therefore not subject to review by the Office of Management and Budget. In addition, this action does not impose any enforceable duty, contain any unfunded mandate, or impose any significant or unique impact on small governments as described in the Unfunded Mandates Reform Act of 1995 (Pub. L. 104-4). This rule also does not require prior consultation with State, local, and tribal government officials as specified by Executive Order 12875 (58 FR 58093, October 28, 1993) or Executive Order 13084 (63 FR 27655, May 10, 1998), or involve special consideration of environmental justice related issues as required by Executive Order 12898 (59 FR 7629, February 16, 1994). Because this action is not subject to notice-and-comment requirements under the Administrative Procedure Act or any other statute, it is not subject to the regulatory flexibility provisions of the Regulatory Flexibility Act (5 U.S.C. 601 et seq.). This rule also is not subject to Executive Order 13045 (62 FR 19885, April 23, 1997) because EPA interprets Executive Order 13045 as applying only to those regulatory actions that are based on health or safety risks, such that the analysis required under section 5-501 of the Order has the potential to influence the regulation. This rule is not subject to Executive Order 13045 because it does not establish an environmental standard intended to mitigate health or safety risks.

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a good cause finding that notice and public procedure is impracticable, unnecessary or contrary to the public interest. This determination must be supported by a brief statement. 5 U.S.C. 808(2). As stated previously, EPA has made such a good cause finding, including the reasons therefore, and established an effective date of October 28, 2002. EPA will submit a report containing this rule and other required information to the U.S. Senate, the U.S. House of Representatives, and the Comptroller General of the United States prior to publication of the rule in the Federal Register. This action is not a “major rule” as defined by 5 U.S.C. 804(2).

List of Subjects in 40 CFR Part 9

Environmental protection, Reporting and recordkeeping requirements.

Dated: October 17, 2002.
Oscar Morales,
Director, Collection Strategies Division, Office of Information Collection.

For the reasons set out in the preamble, 40 CFR part 9 is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1 the table is amended by:

a. Adding an entry title and citations for the ICR for 40 CFR part 65 under the heading “Consolidated Federal Air Rule'; and

b. Revising entries 60.113a-60.115a, 60.113b-60.116b, 60.482-2, 60-482-3, 60.482-4, 60.482-7, 60.482-8, 60.482-10, 60.483-1, 60.483-2, 60.484-60.487, 60.562-1, 60.562-2, 60.563-60.565, 60.613-60.615, 60.663-60.665, 60.703-60.705 under the heading “Standards of Performance for New Stationary Sources”; 61.242-1, 61.242-2, 61.242-3, 61.242-4, 61.242-7, 61.242-8, 61.242-10, 61.242-11, 61.243-1, 61.243-2, 61.244-61.247, 61.271-61.276, 61.300, 61.302-61.305, under the heading “National Emission Standards for Hazardous Air Pollutants'; and 63.103, 63.105, 63.117-63.118, 63.122-63.123, 63.129-63.130, 63.146-63.148, 63.151-63.152, 63.181-63.182 under the heading “National Emission Standards for Hazardous Air Pollutants for Source Categories” to read as follows:

§ 9.1 OMB approvals under the Paperwork Reduction Act.

40 CFR citation | OMB control no.
* * * * *
Standards of Performance New Stationary Sources ¹
* * * * *
60.113a-60.115a | 2060-0443
60.113b-60.116b | 2060-0443
* * * * *
60.482-2 | 2060-0443
60.482-3 | 2060-0443
60.482-4 | 2060-0443
60.482-7 | 2060-0443
60.482-8 | 2060-0443
60.482-10 | 2060-0443
60.483-1 | 2060-0443
60.483-2 | 2060-0443
60.484-60.487 | 2060-0443
* * * * *
60.562-1 | 2060-0443
60.562-2 | 2060-0443
60.563-60.565 | 2060-0443
* * * * *
60.613-60.615 | 2060-0443
* * * * *
60.663-60.665 | 2060-0443
* * * * *
60.703-60.705 | 2060-0443
* * * * *
National Emission Standards for Hazardous Air Pollutants ²
| * * * * *
61.242-1 | 2060-0443
61.242-2 | 2060-0443
61.242-3 | 2060-0443
61.242-4 | 2060-0443
61.242-7 | 2060-0443
61.242-8 | 2060-0443
61.242-10 | 2060-0443
61.242-11 | 2060-0443
61.243-1 | 2060-0443
61.243-2 | 2060-0443
61.244-61.247 | 2060-0443
* * * * *
61.271-61.276 | 2060-0443
61.300 | 2060-0443
61.302-61.305 | 2060-0443
* * * * *
National Emission Standards for Hazardous Air Pollutants for Source Categories ³
* * * * *
63.103 | 2060-0443
63.105 | 2060-0443
63.117-63.118 | 2060-0443
63.122-63.123 | 2060-0443
63.129-63.130 | 2060-0443
63.146-63.148 | 2060-0443
63.151-63.152 | 2060-0443
63.181-63.182 | 2060-0443
* * * * *
Consolidated Federal Air Rule
65.5 | 2060-0443
65.6 | 2060-0443
65.47 | 2060-0443
65.48 | 2060-0443
65.66 | 2060-0443
65.63 | 2060-0443
65.67 | 2060-0443
65.83 | 2060-0443
65.87 | 2060-0443
65.102 | 2060-0443
65.103-65.106 | 2060-0443
65.109 | 2060-0443
65.111 | 2060-0443
65.117-65.120 | 2060-0443
65.159 | 2060-0443
65.160 | 2060-0443
65.162 | 2060-0443
65.163 | 2060-0443
65.164 | 2060-0443
65.165 | 2060-0443
65.166 | 2060-0443
* * * * *
¹ The ICRs referenced in this section of the table encompass the applicable general provisions contained in 40 CFR part 60, subpart A, which are not independent information collection requirements.
² The ICRs referenced in this section of the table encompass the applicable general provisions contained in 40 CFR part 61, subpart A, which are not independent information collection requirements.
³ The ICRs referenced in this section of the table encompass the applicable general provisions contained in 40 CFR part 63, subpart A, which are not independent information collection requirements.

[FR Doc. 02-27140 Filed 10-25-02; 8:45 am]

BILLING CODE 6560-50-P